GENERAL SERVICES ADMINISTRATION

48 CFR Parts 504 and 552

[GSAR-TA-01; Docket No. 2015-0016; Sequence No. 1]

General Services Administration Acquisition Regulation (GSAR); Technical Amendments; Corrections

AGENCY: Office of Acquisition Policy, General Services Administration (GSA).

ACTION: Correcting amendments.

SUMMARY: GSA published a technical amendment document, GSAR-TA-01, which was published in the Federal Register on Wednesday, January 13, 2016 at 81 FR 1531, to make editorial changes. That document inadvertently failed to update a subpart heading and a clause heading. This document corrects the final regulation by revising the subpart.

DATES: Effective: January 22, 2016.

FOR FURTHER INFORMATION CONTACT: Ms. Leah Price, Procurement Analyst, by phone at 703-605-2558, or email at leah.price@gsa.gov for clarification of content. For information pertaining to the status or publication schedules, contact the Regulatory Secretariat Division at 202-501-4755. Please cite GSAR-TA-01; Technical Amendments; Corrections.

SUPPLEMENTARY INFORMATION: In order to update certain elements in 48 CFR parts 504 and 552, this document makes an editorial change to the GSAR.

List of Subjects in 48 CFR Parts 504 and 552

Government procurement.

Dated: January 19, 2016.
Jeffrey A. Koses,
Senior Procurement Executive, Office of Acquisition Policy, Office of Government-wide Policy.

Therefore, GSA amends 48 CFR parts 504 and 552 as set forth below:

1. The authority citation for 48 CFR parts 504 and 552 continues to read as follows:

Authority: 40 U.S.C. 121(c).

PART 504—ADMINISTRATIVE MATTERS

Subpart 504.11—System for Award Management

2. Revise the heading of subpart 504.11 to read as set forth above.

PART 552—SOLICITATION PROVISIONS AND CONTRACT CLAUSES

3. Amend section 552.238-74 by revising the clause heading and date to read as follows:

552.238-74 Industrial Funding Fee and Sales Reporting.

* * * * *

Industrial Funding Fee and Sales Reporting (JAN 2016)

* * * * *

[FR Doc. 2016-01225 Filed 1-21-16; 8:45 am]

BILLING CODE 6820-61-P